DEPARTMENT OF THE TREASURY

Office of Foreign Assets Control

Additional Designations of Individuals Pursuant to Executive Order 13581

AGENCY: Office of Foreign Assets Control, Treasury.

ACTION: Notice.

SUMMARY: The U.S. Department of the Treasury 's Office of Foreign Assets Control (“OFAC”) is publishing the names of five individuals whose property and interests in property have been blocked pursuant to Executive Order 13581 of July 24, 2011, “Blocking Property of Transnational Criminal Organizations” (“the Order”).

DATES: The designation by the Director of OFAC of the five individuals identified in this notice pursuant to Executive Order 13581 is effective on June 6, 2012.

FOR FURTHER INFORMATION CONTACT: Assistant Director, Sanctions Compliance & Evaluation, Office of Foreign Assets Control, U.S. Department of the Treasury, Washington, DC 20220, Tel: (202) 622-2490.

SUPPLEMENTARY INFORMATION:

Electronic and Facsimile Availability

This document and additional information concerning OFAC are available on OFAC's Web site at http://www.treasury.gov/ofac or via facsimile through a 24-hour fax-on-demand service at (202) 622-0077.

Background

On July 24, 2011, the President, invoking the authority, inter alia, of the International Emergency Economic Powers Act (50 U.S.C. 1701-1706), issued the Order. In the Order, the President declared a national emergency to deal with the threat posed by significant transnational criminal organizations and the harm that they cause in the United States and abroad.

Section 1 of the Order blocks, with certain exceptions, all property and interests in property that are in the United States, or that hereafter come within the United States or that are or hereafter come within the possession or control of United States persons, of: (1) The persons listed in an Annex to the Order; (2) any foreign person determined by the Secretary of Treasury, in consultation with the Attorney General and the Secretary of State, that constitutes a significant transnational criminal organization, or materially to assist in, or provide financial or technological support for or goods or services in support of, persons designated in or pursuant to the Order; and (3) persons determined by the Secretary of the Treasury, in consultation with the Attorney General and the Secretary of State, to be owned or controlled by, or to act for or on behalf of, persons designated pursuant to the Order.

On June 6, 2012, the Director of OFAC, in consultation with the Departments of Justice, and State, designated 5 individuals, whose property and interests in property are blocked pursuant to the Order.

The list of designees is as follows:

Individuals

1. MIRZOYEV, Temuri Suleimanovich (a.k.a. MIRZOEV, Temuri; a.k.a. “TIMUR SVERDLOVSKIY”; a.k.a. “TIMUR TBILISI”; a.k.a. “TIMUR TBILISSKIY”), DOB 7 May 1957; POB Tbilisi, Georgia (individual) [TCO].

2. SHEMAZASHVILI, Koba Shalvovich (a.k.a. SHERMAZASHVILI, Koba; a.k.a. “KOBA RUSTAVSKIY”; a.k.a. “TSITSILA”), DOB 1974; POB Rustavi, Georgia (individual) [TCO].

3. SHUSHANASHVILI, Kakhaber Pavlovich (a.k.a. KOSTOV, Nikolay Lyudmilo; a.k.a. ROSTOV, Nicholas; a.k.a. SEPIASHVILI, Moshe Israel; a.k.a. SHUSHANASHVILI, Kajaver; a.k.a. SHUSHANASHVILI Kakha; a.k.a. “KAKHA RUSTAVSKIY”), 8 Rukavishnikov Street, Mariinskiy Posad, Chuvash Republic, Russia; DOB 8 Feb 1972; POB Rustavi, Georgia; alt. POB Kutaisi, Georgia; nationality Georgia (individual) [TCO].

4. SHUSHANASHVILI, Lasha Pavlovich (a.k.a. MALGASOV, Ymar; a.k.a. SHUSHANASHVILI, Iasha Pavlovich; a.k.a. “LASHA RUSTAVSKI”; a.k.a. “LASHA RUSTAVSKY”; a.k.a. “LASHA TOLSTY”), DOB 25 Jul 1961; POB Rustavi, Georgia; nationality Georgia (individual) [TCO].

5. VAGIN, Vladimir Viktorovich (a.k.a. “VAGON”), Sadaf 2 Sector, Tower C06-T06, Apartment 603, Dubai 32900, United Arab Emirates; DOB 3 Feb 1966; POB Raditshevo, Russia; nationality Russia (individual) [TCO].

Dated: June 6, 2012.
Adam J. Szubin,
Director, Office of Foreign Assets Control.

[FR Doc. 2012-21898 Filed 9-5-12; 8:45 am]

BILLING CODE P